DEPARTMENT OF JUSTICE

Antitrust Division

Notice Pursuant to the National Cooperative Research and Production Act of 1993—Naval Surface Technology & Innovation Consortium

Notice is hereby given that, on January 22, 2021, pursuant to Section 6(a) of the National Cooperative Research and Production Act of 1993, 15 U.S.C. 4301 et seq. (“the Act”), Naval Surface Technology & Innovation Consortium (“NSTIC”) has filed written notifications simultaneously with the Attorney General and the Federal Trade Commission disclosing changes in its membership. The notifications were filed for the purpose of extending the Act's provisions limiting the recovery of antitrust plaintiffs to actual damages under specified circumstances.

Specifically, Acutronic USA, Inc., Pittsburgh, PA; Aery Aviation, LLC, Newport News, VA; Alare Technologies, Moorpark, CA; Alluvionic Inc., Melbourne, FL; Applied Information Sciences, Inc. (AIS), Reston, VA; Applied Nanotech Inc., Austin, TX; Areté Associates, Northridge, CA; Averatek Corporation, Santa Clara, CA; AVX Aircraft Company, Benbrook, TX; CellAntenna Corporation, Coral Springs, FL; Cohere Solutions, LLC, Reston, VA; Cova Strategies, LLC, Albuquerque, NM; Daniel Defense, Inc., Black Creek, GA; Electronics Development Corporation, Columbia, MD; EPIQ Design Solutions, Inc. d/b/a Epiq Solutions, Rolling Meadows, IL; Exyn Technologies, Philadelphia, PA; Global Air Logistics and Training, Inc., Del Mar, CA; Great Lakes Sound & Vibration, Inc., Houghton, MI; IMSAR, LLC, Springville, UT; MagiQ Technologies, Inc., Somerville, MA; Maztech Industries, LLC, Irvine, CA; Mikros Systems Corporation, Fort Washington, PA; NKT Photonics, Inc., Boston, MA; North Atlantic Industries, Bohiemia, NY; Northeast Information Discovery, Canastota, NY; Novetta, Inc., McLean, VA; Phased n Research, Inc., Huntsville, AL; Physical Optics Corporation—a Mercury Company, Torrance, CA; Product Development Associates, Inc., Burnsville, MN; ProSync Technology Group, Ellicott City, MD; Satelles, Inc., Reston, VA; Spatial Integrated Systems, Inc., Virginia Beach, VA; Starwin Industries, LLC, Dayton, OH; Surface Optics Corporation, San Diego, CA; Technology Advancement Group, Inc., Dulles, VA; TenCate Advanced Armor USA, Inc., Goleta, CA; University of Arizona Applied Research Corporation, Tucson, AZ; and XR2LEAD LLC, Dumfries, VA, have been added as parties to this venture and the members of the National Armaments Consortium (NAC), whose last filing can be found at (86 FR 5251).

Also, Alion Science and Technology Corporation, New London, CT has withdrawn as a party to this venture.

No other changes have been made in either the membership or planned activity of the group research project. Membership in this group research project remains open, and NSTIC intends to file additional written notifications disclosing all changes in membership.

On October 8, 2019, NSTIC filed its original notification pursuant to Section 6(a) of the Act. The Department of Justice published a notice in the Federal Register pursuant to Section 6(b) of the Act on November 12, 2019 (84 FR 61071).

The last notification was filed with the Department on November 11, 2020. A notice was published in the Federal Register pursuant to Section 6(b) of the Act on November 23, 2020 (85 FR 74763).

Suzanne Morris,
Chief, Premerger and Division Statistics, Antitrust Division.

[FR Doc. 2021-02923 Filed 2-11-21; 8:45 am]

BILLING CODE 4410-11-P